NEIGHBORHOOD REINVESTMENT CORPORATION

Sunshine Act Meetings

TIME AND DATE: 3:00 p.m., Tuesday, March 26, 2024.

PLACE: 1255 Union Street NE, Suite 500, Washington, DC 20002.

STATUS: Parts of this meeting will be open to the public. The rest of the meeting will be closed to the public.

MATTERS TO BE CONSIDERED: Audit Committee Board of Directors meeting.

The General Counsel of the Corporation has certified that in her opinion, one or more of the exemptions set forth in the Government in the Sunshine Act, 5 U.S.C. 552b(c)(2) permit closure of the following portion(s) of this meeting:

• Executive (Closed) Session

Agenda

I. Call to Order

II. Discussion Item: FY2023 External Audit—BDO

III. Sunshine Act Approval of Executive (Closed) Session

IV. Executive Session: Executive Session with External Auditors—BDO

V. Executive Session: Special Topic

VI. Executive Session: GAO Workplan Update

VII. Executive Session: Chief Audit Executive Report

VIII. Action Item: Approval of FY2023 External Audit and Recommendation to the Board

IX. Action Item: Resolution of Recognition of Service for Board Member Rodney Hood

X. Action Item: Quality Assurance and Improvement Program (QAIP) Policy Document

XI. Action Item: Proposed Retirement Plan Audit Services Firm

XII. Discussion Item: Internal Audit Status Reports

a. Bio of New Internal Audit VP Hire

b. Internal Audit Performance Scorecard

c. Implementation of Internal Audit Recommendations

d. Officers Report

XIII. Management Reports

a. Network Watchlist Report

PORTIONS OPEN TO THE PUBLIC: Everything except the Executive (Closed) Session.

PORTIONS CLOSED TO THE PUBLIC: Executive (Closed) Session.

CONTACT PERSON FOR MORE INFORMATION: Jenna Sylvester, Paralegal, (202) 568-2560; jsylvester@nw.org.

Jenna Sylvester,
Paralegal.

[FR Doc. 2024-05548 Filed 3-12-24; 11:15 am]

BILLING CODE 7570-01-P